DEPARTMENT OF THE INTERIOR

Bureau of Land Management

(AZ-070-1610-DH; AZA-31733)

Notice of Intent To Amend the Kingman Resource Management Plan, March 1995, To Determine Whether Land Which Is Not Currently Identified for Disposal Should Be Made Available for Lease and Patent Under the Recreation and Public Purposes Act

AGENCY: Bureau of Land Management, Interior.

ACTION: Notice of intent.

SUMMARY: The Bureau of Land Management (BLM) Lake Havasu Field Office proposes to prepare an Environmental Assessment to determine whether the Kingman Resource Management Plan, (RMP), March 1995, should be amended to allow the following-described lands in Mohave County to be classified in accordance with section 7 of the Taylor Grazing Act, 43 U.S.C. 315f, and Executive Order No. 6910, as suitable for lease and disposal under the provisions of the Recreation and Public Purposes (R&PP) Act, as amended (43 U.S.C. 869 et seq.):

Gila and Salt River Meridian, Arizona

T. 19 N., R. 21 W.,

Sec. 28, E½, S½NW¼, SW¼,

Sec. 33, all.

Containing 1200 acres, more or less.

SUPPLEMENTARY INFORMATION: The Arizona Game & Fish Department (AG&FD) has filed an R&PP application requesting the described land to be made available to meet recreational and educational needs of the community. The current RMP does not identify the land as potentially suitable for disposal. The amendment would make the land available for disposal through R&PP leasing and conveyance. The (AG&FD) proposes to use the above-described sections of land for development of a public shooting range facility and related recreational facilities complex for the greater Bullhead City Area.

SEGREGATION: Upon publication of this notice in the Federal Register, the above-described land in Section 28 will be segregated from all forms of appropriation under the public land laws, including the general mining laws, except for lease and conveyance under the R&PP Act, leasing under the mineral leasing laws, and mineral material disposal laws. Upon publication of this notice, the land in Section 33 will be segregated from all forms of appropriation under the public land laws, except for lease and conveyance under the R&PP Act.

DATES: Interested parties may submit valid comments on the Intent to Amend the Plan and associated environmental assessment. Written comments related to the identification of issues will be accepted on or before July 2, 2001.

Comments, including names and street addresses of respondents, will be available for public review at the address below during regular business hours (7:45 a.m. to 4:30 p.m.), Monday through Friday, except holidays. Individual respondents may request confidentiality. If you wish to withhold your address from public review or from disclosure under the Freedom of Information Act, you must state this prominently at the beginning of your written comment. Such requests will be honored to the extent allowed by law. All submissions from organizations or businesses, and from individuals identifying themselves as representatives or officials of organizations or businesses, will be made available for public inspection in their entirety.

ADDRESSES: Comments on this Notice should be sent to Donald Ellsworth, Field Manager, Bureau of Land Management, Lake Havasu Field Office, 2610 Sweetwater Avenue, Lake Havasu City, Arizona 86406.

FOR FURTHER INFORMATION CONTACT: Field Manager, Donald Ellsworth, Lake Havasu Field Office, 2610 Sweetwater Avenue, Lake Havasu City, Arizona 86406 or telephone (520) 505-1264.

Dated: April 13, 2001.
Donald Ellsworth,
Field Manager.

[FR Doc. 01-12404 Filed 5-16-01; 8:45 am]

BILLING CODE 4310-32-P